ENVIRONMENTAL PROTECTION AGENCY

40 CFR Part 52

[EPA-R07-OAR-2017-0386; FRL-9971-16-Region 7]

Approval of Nebraska Air Quality Implementation Plans; Adoption of a New Chapter Under the Nebraska Administrative Code; Withdrawal of Direct Final Rule

AGENCY: Environmental Protection Agency (EPA).

ACTION: Withdrawal of direct final rule.

SUMMARY: Due to adverse comments, the Environmental Protection Agency (EPA) is withdrawing the direct final rule for “Approval of Nebraska Air Quality Implementation Plans; Adoption of a New Chapter Under the Nebraska Administrative Code” published in the Federal Register on October 5, 2017. Nebraska's SIP revision added a new chapter titled “Visibility Protection” which provides Nebraska authority to implement Federal regulations relating to Regional Haze and Best Available Retrofit Technology (BART). The new chapter incorporates by reference EPA's Guidelines for BART Determinations under the Regional Haze Rule. The revision to the SIP meets the visibility component of the Clean Air Act (CAA).

DATES: The direct final rule published at 82 FR 46415, October 5, 2017, is withdrawn effective November 27, 2017.

FOR FURTHER INFORMATION CONTACT: Greg Crable, Environmental Protection Agency, Air Planning and Development Branch, 11201 Renner Boulevard, Lenexa, Kansas 66219 at (913) 551-7391, or by email at crable.gregory@epa.gov.

SUPPLEMENTARY INFORMATION: Due to adverse comments, EPA is withdrawing the direct final rule to approve revisions to the Nebraska State Implementation Plan (SIP). In the direct final rule published on October 5, 2017 (82 FR 46415), we stated that if we received adverse comment by November 6, 2017, the rule would be withdrawn and not take effect. EPA received adverse comments. EPA will address the comments in a subsequent final action based upon the proposed action also published on October 5, 2017 (82 FR 46433).

List of Subjects in 40 CFR Part 52

Environmental protection, Air pollution control, Best available retrofit technology, Incorporation by reference, Intergovernmental relations, Nitrogen oxides, Particulate matter, Reporting and recordkeeping requirements, Regional haze, Sulfur dioxide, Visibility, Volatile organic compounds.

Dated: November 16, 2017.
James B. Gulliford,
Regional Administrator, Region 7.

Accordingly, the direct final rule published at 82 FR 46415, October 5, 2017, is withdrawn effective November 27, 2017.

[FR Doc. 2017-25428 Filed 11-24-17; 8:45 am]

BILLING CODE 6560-50-P